FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 1, 2009.

A. Federal Reserve Bank of St. Louis (Glenda Wilson, Community Affairs Officer) P.O. Box 442, St. Louis, Missouri 63166-2034:

1. Monte M. Doing, Springfield, Missouri, individually, and in concert with Glen Garrett, Purdy, Missouri; Ozark Heritage Financial Group, Inc., Springfield, Missouri; Rocky R. Levell, Naples, Florida; John E. Sherwood, Miromar Lakes, Florida; Jerry Scott Whisman, Monett, Missouri; Dennis K. Marlin, and Kenneth A. Schwab, both of Springfield, Missouri, to acquire voting shares of OakStar Bancshares, Inc., and thereby indirectly acquire voting shares of OakStar Bank, N.A., both of Springfield, Missouri.

B. Federal Reserve Bank of Dallas (E. Ann Worthy, Vice President) 2200 North Pearl Street, Dallas, Texas 75201-2272:

1. Patrick W. Hopper (as trustee of the PWH Trust UTD 3/2/94), Henderson, Nevada; to acquire additional voting shares of Professional Capital, Inc., and thereby indirectly acquire additional voting shares of Professional Bank, National Association, both of Dallas, Texas.

Board of Governors of the Federal Reserve System, April 13, 2009.
Robert deV. Frierson,
Deputy Secretary of the Board.

[FR Doc. E9-8768 Filed 4-16-09; 8:45 am]

BILLING CODE 6210-01-S